DEPARTMENT OF COMMERCE

National Oceanic and Atmospheric Administration

RIN 0648-XA714

Endangered Species; File No. 15634

AGENCY: National Marine Fisheries Service (NMFS), National Oceanic and Atmospheric Administration (NOAA), Commerce.

ACTION: Issuance of permit.

SUMMARY: Notice is hereby given that NMFS Southwest Fisheries Science Center (SWFSC), 3333 N. Torrey Pines Ct., La Jolla, CA 92037, [Responsible Party: Lisa Ballance, Ph.D.] has been issued a permit to take leatherback sea turtles (Dermochelys coriacea) for purposes of scientific research.

ADDRESSES: The permit and related documents are available for review upon written request or by appointment in the following offices:

Permits and Conservation Division, Office of Protected Resources, NMFS, 1315 East-West Highway, Room 13705, Silver Spring, MD 20910; phone (301) 427-8401; fax (301) 713-0376;

Northwest Region, NMFS, 7600 Sand Point Way NE., BIN C15700, Bldg. 1, Seattle, WA 98115-0700; phone (206) 526-6150; fax (206) 526-6426; and

Southwest Region, NMFS, 501 West Ocean Blvd., Suite 4200, Long Beach, CA 90802-4213; phone (562) 980-4001; fax (562) 980-4018.

FOR FURTHER INFORMATION CONTACT: Amy Hapeman or Colette Cairns, (301) 427-8401.

SUPPLEMENTARY INFORMATION: On September 21, 2011, notice was published in the Federal Register (76 FR 58471) that a request for a scientific research permit to take leatherback sea turtles had been submitted by the above-named organization. The requested permit has been issued under the authority of the Endangered Species Act of 1973, as amended (ESA; 16 U.S.C. 1531 et seq.) and the regulations governing the taking, importing, and exporting of endangered and threatened species (50 CFR parts 222-226).

A five-year permit has been issued to the SWFSC to continue long-term monitoring of the status of leatherback sea turtles off the coasts of California, Oregon, and Washington. The purpose of the work is to identify critical forage habitats, genetic stock structure, migratory corridors, and potential fishery impacts for leatherbacks. Sea turtles would be located by aerial surveys and approached by vessel for remote tissue sampling and transmitter attachment. A subset of animals would be captured by breakaway hoopnet for additional observation, sampling, marking and/or tagging procedures before release.

Issuance of this permit, as required by the ESA, was based on a finding that such permit (1) Was applied for in good faith, (2) will not operate to the disadvantage of such endangered or threatened species, and (3) is consistent with the purposes and policies set forth in section 2 of the ESA.

Dated: April 20, 2012.
Tammy C. Adams,
Acting Chief, Permits and Conservation Division, Office of Protected Resources, National Marine Fisheries Service.

[FR Doc. 2012-9962 Filed 4-24-12; 8:45 am]

BILLING CODE 3510-22-P